DEPARTMENT OF ENERGY

Federal Energy Regulatory Commission

[Docket No. PF06-11-000]

Quoddy Bay LNG, L.L.C.; Supplemental Notice of Intent To Prepare an Environmental Impact Statement for the Quoddy Bay LNG Project and Request for Comments on Environmental Issues Related to the Potential Expansion of the Maritimes & Northeast Pipeline System

December 1, 2006.

The Federal Energy Regulatory Commission (FERC or Commission) is in the process of evaluating the Quoddy Bay Liquefied Natural Gas (LNG) Project planned by Quoddy Bay LNG, L.L.C. (Quoddy Bay). The project would consist of an onshore LNG import terminal located on the Pleasant Point Reservation in Washington County, Maine on the western shore of the Passamaquoddy Bay; a storage facility located in Perry, Maine; and an approximately 35.8-mile-long 36-inch-diameter natural gas sendout pipeline. The Quoddy Bay LNG Project would be designed to have a maximum sendout capacity of 2.0 billion cubic feet of natural gas per day.

The proposed sendout pipeline operated by Quoddy Bay would transport natural gas from the LNG terminal to an interconnect point with the Maritimes & Northeast Pipeline L.L.C.'s (M&NE) existing pipeline system near the town of Princeton, Maine. The M&NE system currently does not have sufficient capacity to transport the natural gas that would be supplied by the Quoddy Bay pipeline. Therefore, if the Quoddy Bay LNG Project is authorized and placed into service, M&NE would need to be modified or expanded in Maine, New Hampshire, and Massachusetts.

This Supplemental Notice of Intent (NOI) discloses the potential facilities that would likely be required to expand M&NE's system, based on information provided to Quoddy Bay by M&NE, and requests comments regarding the possible environmental impact of those facilities. Although M&NE is not proposing to construct these facilities and does not have an application before the FERC, it has been determined that the M&NE facilities are likely a necessary part of the project and that an analysis of the impacts of these facilities will be included in the EIS being prepared for the Quoddy Bay LNG facility.

A map depicting the expansion of the M&NE facilities downstream of the interconnection with Quoddy Bay is included in Appendix 1. The following facilities have been identified by M&NE as necessary to accommodate the gas volumes to be delivered by Quoddy Bay LNG.

Pipeline Looping

Approximately 297.2 miles of 36-inch-diameter pipeline looping would likely be installed within or adjacent to the existing M&NE and Joint Mainline right-of-way or other nearby utility or road rights-of-way, as follows:

• Eliot Loop—approximately 46.3 miles from Methuen, Essex County, Massachusetts to Eliot, York County, Maine;

• Westbrook Loop—approximately 50.1 miles from South Berwick, Cumberland County, Maine to Westbrook, Cumberland County, Maine;

• Richmond Loop—approximately 45.9 miles from Westbrook, Cumberland County, Maine to Richmond, Sagadahoc County, Maine;

• Searsmont Loop—approximately 38.1 miles from Richmond, Sagadahoc County, Maine to Searsmont, Waldo County, Maine;

• Brewer Loop—approximately 40.2 miles from Searsmont, Hancock County, Maine to Brewer, Penobscot County, Maine;

• Woodchopping Ridge Loop—approximately 40.4 miles from Brewer, Penobscot County, Maine to Township T35 MD, Hancock County, Maine; and

• Baileyville Loop—approximately 36.2 miles from Township T35 MD BPP, Washington County, Maine to milepost (MP) 302.2 on the M&NE System.

The potential pipeline loops would generally be adjacent to the existing mainline; however, the exact side that the loop would be located on varies due to numerous crossovers throughout the looping.

Compressor Station Facilities ¹

¹ The Eliot, Westbrook, Searsmont, Brewer and Woodchopping Compressor Stations are to be constructed as part of M&NE Phase IV Project that is currently being evaluated by FERC and other cooperating agencies under Docket Number CP06-335-000. This NOI assumes that the facilities in the Phase IV Project are approved and constructed prior to the construction of the M&NE expansion facilities discussed in this NOI.

Compression requirements for the pipeline expansion would likely include adding compression to six existing compressor stations as follows:

• Eliot Compressor Station (MP 51.2)—Install two Titan 130 natural gas-driven turbine compressors;

• Westbrook Compressor Station (MP 101.5)—Install two Mars 100 natural gas-driven turbine compressors;

• Richmond Compressor Station (MP 147.3)—Install a Titan 130 natural gas-driven turbine compressor;

• Searsmont Compressor Station (MP 185.5)—Install a Titan 130 natural gas-driven turbine compressor;

• Brewer Compressor Station (MP 225.8)—Install a Titan 130 natural gas driven turbine compressor; and

• Woodchopping Ridge Compressor Station (MP 266.1)—Install a Titan 130 natural gas-driven turbine compressor.

By this notice, the Commission specifically requests comments only on these additional M&NE facilities. Your input will help identify the issues that need to be evaluated in the EIS. Comments on the project should be submitted in written form. Further details on how to submit written comments are provided in the Public Participation section of this NOI. Please note that comments are due by January 5, 2006.

This NOI is being sent to Federal, State, and local government agencies; elected officials; environmental and public interest groups; and Indian tribes; and local libraries and newspapers. We encourage them to comment on their areas of concern.

Public Participation

You can make a difference by providing us with your specific comments or concerns about the M&NE expansion. By becoming a commentor, your concerns will be addressed in the EIS and considered by the Commission. Your comments should focus on the potential environmental effects, reasonable alternatives (including alternative facility sites and pipeline routes), and measures to avoid or lessen environmental impacts. The more specific your comments, the more useful they will be. To ensure that your comments are timely and properly recorded, please follow these instructions:

• Send an original and two copies of your letter to: Magalie R. Salas, Secretary, Federal Energy Regulatory Commission, 888 First St., NE., Room 1A, Washington, DC 20426.

• Label one copy of your comments for the attention of OEP/DG2E/Gas Branch 1.

• Reference Docket No. PF06-11-000 on the original and both copies.

• Mail your comments so that they will be received in Washington, DC on or before January 5, 2006.

The Commission strongly encourages electronic filing of any comments in response to this NOI. For information on electronically filing comments, please see the instructions on the Commission's Web site at http://www.ferc.gov under the “e-Filing” link and the link to the User's Guide as well as information in 18 CFR 385.2001(a)(1)(iii). Before you can file comments, you will need to create a free account, which can be accomplished on-line.

Once Quoddy Bay formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

If you wish to be added to the Quoddy Bay LNG environmental mailing list, please return the attached Mailing List Retention Form (Appendix 2 of this NOI). Also, indicate on the form your preference for receiving a paper version of the EIS in lieu of an electronic version of the EIS on CD-ROM. If you do not return this form, we will not add your name to our mailing list.

Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF06-11) in the “Docket Number” field. Be sure you have selected an appropriate date range. For assistance with eLibrary, the eLibrary helpline can be reached at 1-866-208-3676, TTY (202) 502-8659, or by e-mail at FercOnlineSupport@ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, Quoddy Bay L.L.C. LNG has established an Internet Web site for this project at http://www.quoddylng.com. The Web site includes a project overview, status, and answers to frequently asked questions. You can also request additional information by calling Quoddy Bay LNG at 207-853-6631, or by e-mail at ABarstow@quoddylng.com.

Magalie R. Salas,
Secretary.

[FR Doc. E6-20825 Filed 12-7-06; 8:45 am]

BILLING CODE 6717-01-P